DEPARTMENT OF ENERGY

Federal Energy Regulatory Commission

[Docket No. CP20-507-000]

Transcontinental Gas Pipe Line Company, LLC; Notice of Schedule for Environmental Review of the VR-22 to Shore Abandonment Project

On August 6, 2020, Transcontinental Gas Pipe Line Company, LLC (Transco) filed an application in Docket No. CP20-507-000 requesting authorization pursuant to Section 7(b) of the Natural Gas Act to abandon certain natural gas pipeline facilities. The proposed project is known as the VR-22 to Shore Abandonment Project (Project) and consists of abandoning approximately 12.6 miles of 24-inch-diameter pipeline in Vermilion Parish, Louisiana, and in offshore waters of Louisiana State and Federal offshore waters.

On August 17, 2020, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA February 18, 2021

90-day Federal Authorization Decision Deadline May 19, 2021

If a schedule change becomes necessary, additional notice will be provided so that the relevant agencies are kept informed of the Project's progress.

Project Description

Transco proposes to abandon approximately 12.6 miles of 24-inch-diameter natural gas transmission pipeline in Vermilion Parish, Louisiana, and in offshore waters of Louisiana State and Federal offshore waters. Of the 12.6 miles, Transco proposes to abandon approximately 9.9 miles in place, and abandon about 2.7 miles of pipeline by removal. Additionally, Transco would remove equipment associated with meter station 2278 and meter station 4640, located on the Vermilion Block 39 Platform and the VR-22 B Platform offshore, respectively. According to Transco, the facilities proposed for abandonment have not been utilized since 2019 and it does not anticipate that any additional gas flow through these facilities will occur in the future.

Background

On August 26, 2020, the Commission issued a Notice of Intent to Prepare an Environmental Assessment for the Proposed VR-22 to Shore Abandonment Project and Request for Comments on Environmental Issues (NOI). The NOI was sent to affected landowners; federal, state, and local government agencies; elected officials; environmental and public interest groups; Native American tribes; other interested parties; and local libraries and newspapers. We received no comments on the NOI.

Additional Information

In order to receive notification of the issuance of the EA and to keep track of all formal issuances and submittals in specific dockets, the Commission offers a free service called eSubscription. This can reduce the amount of time you spend researching proceedings by automatically providing you with notification of these filings, document summaries, and direct links to the documents. Go to https://www.ferc.gov/ferc-online/overview to register for eSubscription.

Additional information about the Project is available from the Commission's Office of External Affairs at (866) 208-FERC or on the FERC website (www.ferc.gov). Using the eLibrary link, select General Search from the eLibrary menu, enter the selected date range and Docket Number excluding the last three digits (i.e., CP20-507), and follow the instructions. For assistance with access to eLibrary, the helpline can be reached at (866) 208-3676, TTY (202) 502-8659, or at FERCOnlineSupport@ferc.gov.

The eLibrary link on the FERC website also provides access to the texts of formal documents issued by the Commission, such as orders, notices, and rule makings.

Dated: October 21, 2020.
Kimberly D. Bose,
Secretary.

[FR Doc. 2020-23731 Filed 10-26-20; 8:45 am]

BILLING CODE 6717-01-P